DEPARTMENT OF LABOR

Employment and Training Administration

[TA-W-53,094]

Eastman Machine Company Buffalo, New York; Notice of Negative Determination Regarding Application for Reconsideration

By application of December 4, 2003, the United Automobile, Aerospace, and Agricultural Implement Workers of America, Local 936 requested administrative reconsideration of the Department's negative determination regarding eligibility for workers and former workers of the subject firm to apply for Trade Adjustment Assistance (TAA). The denial notice was signed on November 6, 2003 and published in the Federal Register on November 28, 2003 (68 FR 66877).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Eastman Machine Company, Buffalo, New York engaged in the production of manual and automatic cutting machines were denied because the “contributed importantly” group eligibility requirement of Section 222(3) of the Trade Act of 1974 was not met. The subject firm did not import manual and automatic cutting machines and production was not shifted abroad.

The union alleges that the subject firm failed to report imports of machines called D2's from China.

A company official was contacted in regard to these allegations. The official stated that D2 machines are indeed being imported by the subject firm, however, it is a very insignificant part of business which represents less than one percent of subject firm's total sales and production. Plant production and employment were not affected by these negligible imports during the relevant period.

The petitioner further alleges that the subject firm experienced “a drop in sales of another line of machines called the straight knife line due to cheaper clones being made in China and other countries.” A production chart for years from 1988 to 2002 is attached in support of this allegation. The chart shows a decline in production of 629X machines from 2000 to 2001 and an increase from 2001 to 2002.

In its investigation, the Department considers production that occurred a year prior to the date of the petition. Thus the period ending in 2001 is outside the relevant period as established by the petition date of September 19, 2003. Thus a drop in production of 629X machines prior to 2001 is irrelevant in this investigation.

The union also alleges that Eastman is importing finished components for the machinery produced by the subject firm.

In fact, the original investigation revealed imports of components by the subject firm. However, in assessing the eligibility of a petitioning worker group for trade adjustment assistance, the Department considers imports that are “like or directly” competitive to those produced by the petitioning worker group. Imported components are used for further manufacturing by the subject firm and are not considered “like or directly” competitive with manual and automatic cutting machines produced by the subject firm, and thus do not meet the eligibility requirements of the Trade Act of 1974.

Conclusion

After review of the application and investigative findings, I conclude that there has been no error or misinterpretation of the law or of the facts which would justify reconsideration of the Department of Labor's prior decision. Accordingly, the application is denied.

Signed at Washington, DC, this 23rd day of January, 2004.
Elliott S. Kushner,
Certifying Officer, Division of Trade Adjustment Assistance.

[FR Doc. 04-3310 Filed 2-13-04; 8:45 am]

BILLING CODE 4510-30-P